DEPARTMENT OF THE INTERIOR

Geological Survey

Notice of Availability of the Final Environmental Assessment for Solar Roof Project

AGENCY: United States Geological Survey.

ACTION: Notice of availability.

SUMMARY: In accordance with the National Environmental Policy Act of 1969, as amended, and the Federal Land Policy and Management Act of 1976, as amended, the US Geological Survey (USGS) has prepared a Final Environmental Assessment for the Solar Roof Project and by this notice is announcing its availability.

DATES: The USGS publishes this Notice in the Federal Register of the availability of Environmental Assessment and Finding of No Significant Impact.

FOR FURTHER INFORMATION CONTACT: For further information contact Richard L. Isensee, Professional Engineer at USGS National Wildlife Health Center, 6006 Schroeder Road, Madison, Wisconsin 53711-6226.

SUPPLEMENTARY INFORMATION:

Availability of Documents

Individuals wishing to receive copies of the Environmental Assessment for the Solar Roof Project should immediately contact the USGS S.O. Conte Anadromous Fish Research Center, One Migratory Way, P.O. Box 796, Turners Falls, MA 01376-0796. Copies of the EA are also available for public inspection during regular business hours at the USGS S.O. Conte Anadromous Center (see same address above).

Background

The objective of the S.O. Conte Research Center is to provide Federal leadership in the scientific based management of national and international Atlantic Coast anadromous fish resources by conducting research programs of regional importance to provide information for restoration and rational management of northeast and mid-west United States anadromous fish. The proposed action is to replace two temporary canvas structures that are energy inefficient and do not comply with health and safety codes, with a new permanent 3,000-square-foot building. The new building would provide appropriate housing for fishery species, equipment and scientific research. Public input included requests for input and information early in the project from agencies with potential interest of jurisdiction, and from local organizations with a potential interest in the proposed project. In addition, a public meeting was held December 9, 2009 at the Conte facility. No issues or concerns were raised during that public meeting.

Authority: 40 CFR 1506.6, 40 CFR 1506.10.

Dated: February 1, 2010.
James F. Devine,
Senior Advisor for Science Applications, United States Geological Survey.

[FR Doc. 2010-2640 Filed 2-12-10; 8:45 am]

BILLING CODE 4311-AM-P